DEPARTMENT OF THE INTERIOR

Fish and Wildlife Service

Hanford Reach National Monument Federal Advisory Committee Meetings Notice

AGENCY: Fish and Wildlife Service, Interior.

ACTION: Notice of Federal Advisory Committee meetings.

SUMMARY: The U.S. Fish and Wildlife Service is announcing two meetings of the Hanford Reach National Monument Federal Planning Advisory Committee (Committee). The meetings will take place at the Consolidated Information Center, Washington State University Tri-Cities Campus, 2770 University Drive, Richland, Washington, in Rooms 120 and 120A. Verbal comments will be considered during the course of the meeting and written comments will be accepted at the close of the meeting or via mail to the Monument office (see addresses).

DATES: The Committee has scheduled the following meetings:

1. Tuesday, December 3, 2002, from 9 a.m. to 4 p.m.

2. Tuesday, January 7, 2003, from 9 a.m. to 4 p.m.

ADDRESSES: Any member of the public wishing to submit written comments should send those to Mr. Greg Hughes, Designated Federal Official for the Hanford Reach National Monument (HRNM) Federal Planning Advisory Committee, Hanford Reach National Monument/Saddle Mountain National Wildlife Refuge, 3250 Port of Benton Blvd., Richland, WA 99352; fax (509) 375-0196. Copies of the draft meeting agenda can be obtained from the Designated Federal Official.

FOR FURTHER INFORMATION CONTACT: Any member of the public wishing further information concerning the meeting should contact Mr. Greg Hughes, Designated Federal Official for the Hanford Reach National Monument (HRNM) Federal Planning Advisory Committee (Committee); phone (509) 371-1801, fax (509) 375-0196.

SUPPLEMENTARY INFORMATION: Over the next several months, the Committee will receive information regarding resource reviews that took place on the Monument during the summer of 2002. Additionally, the Committee will be reviewing objectives and goals for the Monument. While public scoping ended on October 12, 2002, the Committee continues to receive public comments via mail and at Committee meetings.

Dated: October 28, 2002.
Rowan W. Gould,
Acting Regional Director, Region 1, Portland, Oregon.

[FR Doc. 02-28752 Filed 11-12-02; 8:45 am]

BILLING CODE 4310-55-P